DEPARTMENT OF TRANSPORTATION

Federal Aviation Administration

14 CFR Part 39

[Docket No. FAA-2008-0393 Directorate Identifier 2008-CE-011-AD; Amendment 39-15533; AD 2008-11-11]

RIN 2120-AA64

Airworthiness Directives; Viking Air Limited Model DHC-2 Series Airplanes

AGENCY: Federal Aviation Administration (FAA), Department of Transportation (DOT).

ACTION: Final rule.

SUMMARY: We are superseding an existing airworthiness directive (AD) for the products listed above. This AD results from mandatory continuing airworthiness information (MCAI) issued by an aviation authority of another country to identify and correct an unsafe condition on an aviation product. The MCAI describes the unsafe condition as:

Cracks have been reported in the front spar center web of the tailplane at the pick-up bracket and at lightening holes. If not detected early and repaired, these cracks may lead to failure of the tailplane.

We are issuing this AD to require actions to correct the unsafe condition on these products.

DATES: This AD becomes effective July 23, 2008.

On July 23, 2008, the Director of the Federal Register approved the incorporation by reference of Viking DHC-2 Beaver Service Bulletin 2/47, Revision E, dated January 23, 2007, listed in this AD.

As of December 15, 1992 (57 FR 53254, November 9, 1992), the Director of the Federal Register approved the incorporation by reference of deHavilland Technical News Sheet B55, dated August 1, 1952; and Bombardier de Havilland DHC-2 (Beaver) Service Bulletin 2/47 Revision C, revised September 4, 1992, listed in this AD.

ADDRESSES: You may examine the AD docket on the Internet at http://www.regulations.gov or in person at the Docket Management Facility, U.S. Department of Transportation, Docket Operations, M-30, West Building Ground Floor, Room W12-140, 1200 New Jersey Avenue, SE., Washington, DC 20590.

FOR FURTHER INFORMATION CONTACT: Pong Lee, Aerospace Engineer, FAA, New York Certification Office, 1600 Stewart Avenue, Suite 410, Westbury, New York 11590; telephone: (516) 228-7324; fax: (516) 794-5531.

SUPPLEMENTARY INFORMATION:

Discussion

We issued a notice of proposed rulemaking (NPRM) to amend 14 CFR part 39 to include an AD that would apply to the specified products. That NPRM was published in the Federal Register on April 2, 2008 (73 FR 17937), and proposed to supersede AD 92-24-02, Amendment 39-8407 (57 FR 53254, November 9, 1992). That NPRM proposed to correct an unsafe condition for the specified products. The MCAI states:

Cracks have been reported in the front spar center web of the tailplane at the pick-up bracket and at lightening holes. If not detected early and repaired, these cracks may lead to failure of the tailplane. This revision is issued to reflect the new requirement to inspect the tailplane front spar web behind the pick-up brackets using fluorescent penetrant inspection (FPI) instead of the visual inspection method used previously.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

Based on the service information, we estimate that this AD will affect 396 products of U.S. registry. We also estimate that it will take about 10 work-hours per product to comply with basic requirements of this AD. The average labor rate is $80 per work-hour.

Based on these figures, we estimate the cost of this AD to the U.S. operators to be $316,800 or $800 per product.

In addition, we estimate that any necessary follow-on actions would take about 48 work-hours and require parts costing $1,854, for a cost of $5,694 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-8407 (57 FR 53254, November 9, 1992), and adding the following new AD:

2008-11-11 Viking Air Limited: Amendment 39-15533; Docket No. FAA-2008-0393; Directorate Identifier 2008-CE-011-AD.

Effective Date

(a) This airworthiness directive (AD) becomes effective July 23, 2008.

Affected ADs

(b) This AD supersedes AD 92-24-02, Amendment 39-8407.

Applicability

(c) This AD applies to Models DHC-2 Mk. I, DHC-2 Mk. II, and DHC-2 Mk. III airplanes, all serial numbers, certificated in any category.

Subject

(d) Air Transport Association of America (ATA) Code 55: Stabilizers.

Reason

(e) The mandatory continuing airworthiness information (MCAI) states:

Cracks have been reported in the front spar center web of the tailplane at the pick-up bracket and at lightening holes. If not detected early and repaired, these cracks may lead to failure of the tailplane. This revision is issued to reflect the new requirement to inspect the tailplane front spar web behind the pick-up brackets using fluorescent penetrant inspection (FPI) instead of the visual inspection method used previously.

Actions and Compliance

(f) Unless already done, do the following:

(1) For airplanes with cracks that have been previously repaired with stop-drilled holes: Within the next 12 calendar months after December 15, 1992 (the compliance date retained from AD 92-24-02), replace the tailplane front spar following Bombardier de Havilland DHC-2 (Beaver) Service Bulletin 2/47 Revision C, revised September 4, 1992.

(2) For airplanes with lightening holes (without modification 2/466): Within the next 200 hours time-in-service (TIS) after December 15, 1992 (the compliance date retained from AD 92-24-02), visually inspect the front spar web in the area of the lightening holes for cracks between the pickup brackets.

(i) If cracks are found, before further flight, incorporate Modification 2/466: installation of tailplane front spar without lightening holes, following Bombardier de Havilland DHC-2 (Beaver) Service Bulletin 2/47 Revision C, revised September 4, 1992; or Viking DHC-2 Beaver Service Bulletin 2/47, Revision E, dated January 23, 2007.

(ii) If cracks are not found, within the next 24 calendar months after December 15, 1992 (the compliance date retained from AD 92-24-02), incorporate Modification 2/466: installation of tailplane front spar without lightening holes, following Bombardier de Havilland DHC-2 (Beaver) Service Bulletin 2/47 Revision C, revised September 4, 1992; or Viking DHC-2 Beaver Service Bulletin 2/47, Revision E, dated January 23, 2007.

Note 1: Modification 2/466, installation of tailplane front spar without lightening holes, is referenced in AD 92-24-02 and Bombardier de Havilland DHC-2 (Beaver) Service Bulletin 2/47 Revision C, revised September 4, 1992; and Viking DHC-2 Beaver Service Bulletin 2/47, Revision E, dated January 23, 2007. Accomplishment of AD 92-24-02 or this AD incorporates modification 2/466.

(3) For the following airplanes: Within the next 24 calendar months after December 15, 1992 (the compliance date retained from AD 92-24-02), do the following:

(i) For airplanes having serial numbers (S/Ns) 1 through 100: Install longer pick-up brackets (modification 2/436) following deHavilland Technical News Sheet B55, dated August 1, 1952.

Note 2: Modification 2/436 was incorporated at manufacture on airplanes beginning with S/N 101. Other airplanes may have incorporated this modification in the field.

(ii) For airplanes having S/N 1 through 317: Install a gusset plate on the rear face at each of the pick-up brackets (modification 2/758) following deHavilland Technical News Sheet B55, dated August 1, 1952.

Note 3: Modification 2/758 was incorporated at manufacture on airplanes beginning with S/N 318. Other airplanes may have incorporated this modification in the field.

(4) For all airplanes: Within 200 hours time-in-service (TIS) after July 23, 2008 (the effective date of this AD) and repetitively thereafter at intervals not to exceed every 24 months, remove the tailplane front spar pick-up brackets and do a fluorescent penetrant inspection of the tailplane front spar web for cracks in the area of the pick-up brackets following Appendix A of Viking DHC-2 Beaver Service Bulletin 2/47, Revision E, dated January 23, 2007.

(5) For all airplanes: If during any of the inspections required in paragraph (f)(4) of this AD cracks are found, before further flight, replace the tailplane front spar following Viking DHC-2 Beaver Service Bulletin 2/47, Revision E, dated January 23, 2007. The 24-month repetitive fluorescent penetrant inspection is still required.

Note 4: The replacement and modifications required by this AD do not terminate the 24-month repetitive fluorescent penetrant inspection required by paragraph (f)(4) of this AD.

(6) For all airplanes: If any cracks are found as a result of the inspections required by this AD, use the following contact information to report your results: Viking Air Limited, Technical Support, 9574 Hampden road, Sidney, British-Columbia, Canada, V8L 5V5; telephone: regional 250-656-7227, North America 1-800-0663-8444, or international 1-800-6727-6727; fax: 250-656-0673; e-mail: technical.support@vikingair.com.

FAA AD Differences

Note 5: This AD differs from the MCAI and/or service information as follows: No differences.

Other FAA AD Provisions

(g) The following provisions also apply to this AD:

(1) Alternative Methods of Compliance (AMOCs): The Manager, New York Aircraft Certification Office, FAA, has the authority to approve AMOCs for this AD, if requested using the procedures found in 14 CFR 39.19. Send information to ATTN: Pong Lee, Aerospace Engineer, FAA, New York Certification Office, 1600 Stewart Avenue, Suite 410, Westbury, New York 11590; telephone: (516) 228-7324; fax: (516) 794-5531. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to Transport Canada AD CF-1991-42R1, dated March 13, 2007; and Viking DHC-2 Beaver Service Bulletin No. 2/47, Revision E, dated January 23, 2007, for related information.

Material Incorporated by Reference

(i) You must use Bombardier de Havilland DHC-2 (Beaver) Service Bulletin 2/47 Revision C, revised September 4, 1992; deHavilland Technical News Sheet B55, dated August 1, 1952; and Viking DHC-2 Beaver Service Bulletin 2/47, Revision E, dated January 23, 2007, to do the actions required by this AD, unless the AD specifies otherwise.

(1) The Director of the Federal Register approved the incorporation by reference of Viking DHC-2 Beaver Service Bulletin 2/47, Revision E, dated January 23, 2007, under 5 U.S.C. 552(a) and 1 CFR part 51.

(2) On December 15, 1992 (57 FR 53254, November 9, 1992), the Director of the Federal Register previously approved the incorporation by reference of deHavilland Technical News Sheet B55, dated August 1, 1952; and Bombardier de Havilland DHC-2 (Beaver) Service Bulletin 2/47 Revision C, revised September 4, 1992.

(3) For service information identified in this AD, contact Viking Air Limited, 9574 Hampden Road, Sidney, B.C., Canada V8L 5V5 or R.W. Martin, Inc., 37552 Winchester Road, Hangar 20, Murrieta, California 92563.

(4) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on June 10, 2008.
Kim Smith,
Manager, Small Airplane Directorate, Aircraft Certification Service.

[FR Doc. E8-13478 Filed 6-17-08; 8:45 am]

BILLING CODE 4910-13-P